DEPARTMENT OF LABOR

Employment and Training Administration

[TA-W-82,557D]

Ericsson Inc., Wireless Core Group, Including On-Site Leased Workers From Hewlett Packard Enterprise Services and Kforce Staffing Solutions, Overland Park, Kansas; Amended Certification Regarding Eligibility To Apply for Worker Adjustment Assistance

In accordance with Section 223 of the Trade Act of 1974, as amended (“Act”), 19 U.S.C. 2273, the Department of Labor issued a Certification of Eligibility to Apply for Worker Adjustment Assistance on April 2, 2013, applicable to workers of Ericsson Inc., Wireless Core Group, Overland Park, Kansas (Ericsson). On November 7, 2014, the Department issued an amended certification. Workers of Ericsson are engaged in activities related to the supply of technical support of wireless core network elements for end users.

At the request of a state workforce office, the Department reviewed the certification for workers of the subject firm.

The Department has determined that workers of Hewlett Packard Enterprise Services and Kforce Staffing Solutions were sufficiently under the operational control of the subject firm to be considered on-site leased workers.

The amended notice applicable to TA-W-82,557 is hereby issued as follows:

All workers of Ericsson Inc., Wireless Core Group, including on-site leased workers from Hewlett Packard Enterprise Services and Kforce Staffing Solutions, Overland Park, Kansas (TA-W-82,557D) who became totally or partially separated from employment on or after March 12, 2012 through April 2, 2015, and all workers in the group threatened with total or partial separation from employment on the date of certification through two years from the date of certification, are eligible to apply for adjustment assistance under Chapter 2 of Title II of the Trade Act of 1974, as amended.

Signed in Washington, DC, this 1st day of June 2016.
Jessica R. Webster,
Certifying Officer, Office of Trade Adjustment Assistance.

[FR Doc. 2016-15254 Filed 6-27-16; 8:45 am]

BILLING CODE P